DEPARTMENT OF THE INTERIOR

Fish and Wildlife Service

Extension of Approved Information Collection, OMB Number 1018-0092, on Permit/License Applications

AGENCY: Fish and Wildlife Service, Interior.

ACTION: Notice; request for comments.

SUMMARY: The U.S. Fish and Wildlife Service is announcing its intention to request renewal of its existing approval to collect certain information from applicants who wish to obtain a permit or license to conduct activities under a number of wildlife conservation laws, treaties and regulations. We will submit the collection of information listed below to the Office of Management and Budget (OMB) for approval under the provisions of the Paperwork Reduction Act of 1995. If you wish to obtain copies of the proposed information collection requirement, related forms, and explanatory material, contact the Collection Clearance Officer at the address listed below.

DATES: OMB has up to 60 days to approve or disapprove information collection, but may respond after 30 days. Therefore, to ensure maximum consideration you must submit comments on or before April 6, 2001.

ADDRESSES: Send your comments and suggestions on specific requirements to the Office of Management and Budget, Attention: Department of the Interior Desk Officer, 725 17th Street, NW, Washington, DC 20503, and to Rebecca Mullin, Collection Clearance Officer, U.S. Fish and Wildlife Service, MS 222-ARLSQ; 4401 N. Fairfax Drive, Arlington, VA 22203.

FOR FURTHER INFORMATION CONTACT: To request a copy of the information collection request, explanatory information and related forms, contact Rebecca A. Mullin, Collection Clearance Officer at 703-358-2287, or electronically to: rmullin@fws.gov.

SUPPLEMENTARY INFORMATION: OMB regulations at 5 CFR 1320, which implement provisions of the Paperwork Reduction Act of 1995 (Pub. L, 104-13), require that interested members of the public and affected agencies have an opportunity to comment on information collection and record keeping activities [see 5 CFR 1320.8(d)]. The U.S. Fish and Wildlife Service (We) has submitted a request to OMB to renew its approval of the collection of information for the Service's license/permit application form number 3-200-1 through 3-200-3 and 3-200-26. We are requesting a 3-year term of approval for this information collection activity. A previous 60-day notice on this information collection requirement was published in the November 29, 2000 (65 FR 30246) Federal Register inviting public comment. No comments on the previous notice were received. This notice provides an additional 30 days in which to comment on the following information.

We invite comments concerning this renewal on: (1) whether the collection of information is necessary for the proper performance of the functions of the agency, including whether the information will have practical utility; (2) the accuracy of the agency's estimate of burden, (3) ways to enhance the quality, utility and clarity of the information to be collected; and (4) ways to minimize the burden of the collection of information on those who are to respond. The information collections in this program are part of a system of record covered by the Privacy Act [5 U.S.C. 552(a)].

Federal agencies may not conduct or sponsor, and a person is not required to respond to, a collection of information unless it displays a currently valid OMB control number. The OMB control number for this collection of information is 1018-0092.

The information collection requirements in this submission implement the regulatory requirements of the Endangered Species Act (16 U.S.C. 1539), the Migratory Bird Treaty Act (15 U.S.C. 704), the Lacey Act (18 U.S.C. 42-44), the Bald and Golden Eagle Protection Act (16 U.S.C. 668), the Convention on International Trade in Endangered Species of Wild Fauna and Flora (CITES), (27 UST 108), the Marine Mammal Protection Act (16 U.S.C. 1361-1407), and Wild Bird Conservation Act (16 U.S.C. 4901-4916), and are contained in Service regulations in Chapter I, Subchapter B of Title 50 Code of Federal Regulations (CFR). Common permit application and record keeping requirements have been consolidated in 50 CFR 13, and unique requirements of the various statutes in the applicable Part.

OMB Control Number: 1018-0092.

Service Form Numbers: 3-200-1 through 3-200-3 and 3-200-26.

Frequency of Collection: On Occasion.

Description of Respondents: Individuals, biomedical companies, circuses, zoological parks, botanical gardens, nurseries, museums, universities, scientists, antique dealers, exotic pet industry, hunters, taxidermists, commercial importers/exporters of wildlife and plants, freight forwarders/brokers, local, State, tribal and Federal governments.

Total Annual Burden Hours: 8,232.64.

Total Annual Responses: 8,236.

Total Annual Non-Hour Cost Burden: $308,200 ($25 application fees and $50 license fee).

Dated: February 15, 2001.
Rebecca A. Mullin,
Information Collection Officer, U.S. Fish and Wildlife Service.

[FR Doc. 01-5551 Filed 3-6-01; 8:45 am]

BILLING CODE 4310-55-P